INTERNATIONAL TRADE COMMISSION

[USITC SE-16-007]

Government in the Sunshine Act Meeting Notice

AGENCY HOLDING THE MEETING: United States International Trade Commission

TIME AND DATE: March 11, 2016 at 11:00 a.m.

PLACE: Room 101, 500 E Street SW., Washington, DC 20436, Telephone: (202) 205-2000

STATUS: Open to the public

MATTERS TO BE CONSIDERED:

1. Agendas for future meetings: None.

2. Minutes.

3. Ratification List.

4. Vote in Inv. Nos. 701-TA-556 and 731-TA-1311 (Preliminary) (Truck and Bus Tires from China). The Commission is currently scheduled to complete and file its determinations on March 14, 2016; views of the Commission are currently scheduled to be completed and filed on March 21, 2016.

5. Vote in Inv. No. 731-TA-1269 (Final) (Silicomanganese from Australia). The Commission is currently scheduled to complete and file its determination and views of the Commission on March 23, 2016.

6. Outstanding action jackets: None.

In accordance with Commission policy, subject matter listed above, not disposed of at the scheduled meeting, may be carried over to the agenda of the following meeting.

Issued: March 1, 2016.
By order of the Commission.
William R. Bishop,
Supervisory Hearings and Information Officer.

[FR Doc. 2016-05356 Filed 3-7-16; 11:15 am]

BILLING CODE 7020-02-P